DEPARTMENT OF ENERGY

Federal Energy Regulatory Commission

[Docket No. AD24-7-000]

Federal and State Current Issues Collaborative; Notice Announcing Appointees

On March 21, 2024, the Federal Energy Regulatory Commission (the Commission or FERC) issued an order, pursuant to section 209(b) of the Federal Power Act (FPA),¹ establishing the Federal and State Current Issues Collaborative (Collaborative).² The Collaborative provides a venue for federal and state regulators to share perspectives, increase understanding, and, where appropriate, identify potential solutions regarding challenges and coordination on matters that implicate both state and federal regulatory jurisdiction.³

¹ 16 U.S.C. 824h(b).

² Fed. & State Current Issues Collaborative, 186 FERC ¶ 61,189 (2024). (Establishing Order).

³ Id. P 5.

In the Establishing Order, the Commission requested that the National Association of Regulatory Utility Commissioners (NARUC) nominate state commission representatives to serve on the Collaborative, with two state commission representatives originating from each NARUC region.⁴ On July 17, 2025, the Commission issued an order explaining that NARUC will fill state commissioner vacancies on the Collaborative without formal Commission appointment and that the Commission will issue periodic notices listing new members.⁵ Notice is hereby given that, on August 28, 2025, NARUC appointed the following state commission representatives to the Collaborative, to serve from August 28, 2025, through August 27, 2026: ⁶

⁴ Id. P 6.

⁵ Fed. & State Current Issues Collaborative, 192 FERC ¶ 61,056, at P 3 (2025).

⁶ State commission representatives serve one-year terms. See Establishing Order, 186 FERC ¶ 61,189 at P 6.

Mid-Atlantic Conference of Regulatory Utilities Commissioners Representatives:

• Commissioner Kelsey Bagot, Virginia State Corporation Commission

• Commissioner Kathryn Zerfuss, Pennsylvania Public Utility Commission

Mid-America Regulatory Conference Representatives:

• Chair Sarah Martz, Iowa Utilities Commission

• Commissioner Stacey Paradis, Illinois Commerce Commission

New England Conference of Public Utility Commissioners Representatives:

• Chairman Philip L. Bartlett, Maine Public Service Commission

• Commissioner Pradip Chattopadhyay, New Hampshire Public Utilities Commission

Southeastern Association of Regulatory Utility Commissioners Representatives:

• Commissioner Karen Kemerait, North Carolina Utilities Commission

• Commissioner Gabriella Passidomo Smith, Florida Public Service Commission

Western Conference of Public Service Commissioners Representatives:

• Vice Chair Nick Myers, Arizona Corporation Commission

• Chair Brian Rybarik, Washington Utilities and Transportation Commission

More information about the Collaborative is available here: https://www.ferc.gov/federal-state-current-issues-collaborative.

For questions, please contact: Robert Thormeyer, 202-502-8694, robert.thormeyer@ferc.gov, CeCe Coffey, 202-502-8040, cecelia.coffey@ferc.gov, Joseph Popely, 202-502-8513, joseph.popely@ferc.gov, or Kimberly Duffley, 202-898-1305, kduffley@naruc.org.

Dated: September 22, 2025.
Debbie-Anne A. Reese,
Secretary.

[FR Doc. 2025-18684 Filed 9-25-25; 8:45 am]

BILLING CODE 6717-01-P